ADVISORY COUNCIL ON HISTORIC PRESERVATION

Notice of Meeting

Correction

In notice document 07-3897 appearing on page 45006 in the issue of Friday, August 10, 2007, make the following correction:

On page 45006, in the first column, under the heading summary, in the first paragraph, in the last line, “Vicksburg, MS at 9 a.m.” should read “Vicksburg Convention Center, 1600 Mulberry Street, Vicksburg, MS at 9 a.m.”.

[FR Doc. C7-3897 Filed 8-13-07; 8:45 am]

BILLING CODE 1505-01-D